Title 3—

The President

Proclamation 10531 of March 17, 2023

National Poison Prevention Week, 2023

By the President of the United States of America

A Proclamation

Each year, Americans report more than 2 million poisoning cases and tens of thousands of children are treated for poisoning in emergency rooms after accidentally ingesting dangerous household chemicals. For survivors and their families, the experience can be traumatizing and recovery can be long and difficult. During National Poison Prevention Week, we urge every American to take careful steps to keep their loved ones safe, and we thank the poison control centers across the country that stand guard, providing lifesaving advice and care around the clock.

The Congress has worked for decades to protect Americans from poisonous household products, and President John F. Kennedy issued the first Presidential Proclamation calling out this threat in 1962. Today, that work continues. Most poisoning cases are accidental and preventable, often involving children who mistakenly ingest medicines, batteries, dangerous chemicals found in household cleaning items, hand sanitizers, or even the liquid nicotine used in e-cigarettes.

It is essential to store harmful products in child-resistant packaging, throw away unfinished medicines, and keep other potential poisons out of the sight and reach of small children. That is why, last year, I signed a new law to improve child-resistant closures on consumer products that use small batteries. And we need to encourage older Americans to clearly label their medications or keep them in their original packaging to avoid dangerous mix-ups.

We cannot ignore the equally important fact that Americans are being poisoned by illegal synthetic opioids, including highly toxic fentanyl, sometimes even on their first use. More than 107,000 Americans lost their lives to a drug overdose or poisoning in 2021. My National Drug Control Strategy takes aggressive action to disrupt supply and to expand access to lifesaving naloxone, treatments, and recovery services while also investing in prevention.

Anyone who thinks that someone, including themselves, has been poisoned should immediately call the National Poison Control help line at 800-222-1222 to be connected to a local poison control center. Trained experts, including doctors, nurses, and pharmacists, are ready to offer real-time help and can often solve a poisoning emergency over the phone. Learn more about their lifesaving services at poisonhelp.hrsa.gov.

To encourage Americans to learn more about the dangers of unintentional poisonings and to take appropriate preventive measures, on September 26, 1961, the United States Congress, by joint resolution (75 Stat. 681), authorized and requested the President to issue a proclamation designating the third week of March each year as “National Poison Prevention Week.”

NOW, THEREFORE, I, JOSEPH R. BIDEN JR., President of the United States of America, do hereby proclaim March 19 through March 25, 2023, to be National Poison Prevention Week. I call upon all Americans to observe this week by taking actions to safeguard their families and friends from poisonous products, chemicals, and medicines often found in our homes and to raise awareness of these dangers to prevent accidental injuries and deaths.

IN WITNESS WHEREOF, I have hereunto set my hand this seventeenth day of March, in the year of our Lord two thousand twenty-three, and of the Independence of the United States of America the two hundred and forty-seventh.

[FR Doc. 2023-05989

Filed 3-21-23; 8:45 am]

Billing code 3395-F3-P